DEPARTMENT OF COMMERCE

Census Bureau

Proposed Information Collection; Comment Request; Annual Survey of Manufactures

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 11, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument(s) and instructions should be directed to Julius Smith, Jr., U.S. Census Bureau, Economy-Wide Statistics Division, Room 8K053, 4600 Silver Hill Road, Washington, DC 20233, (301) 763-7662 or via the internet at julius.smith.jr@census.gov.

SUPPLEMENTARY INFORMATION:

I. Abstract

The Census Bureau has conducted the Annual Survey of Manufactures (ASM) since 1949 to provide key measures of manufacturing activity during intercensal periods. In census years ending in “2” and “7”, the Census Bureau mails and collects the ASM as part of the Economic Census. In other years, the ASM is mailed and collected as a stand-alone survey. This survey is an integral part of the Federal Government's statistical data on U.S. manufacturers. The ASM furnishes up-to-date estimates of employment and payroll, hours and wages of production workers, value added by manufacture, cost of materials, value of shipments by product, inventories, and expenditures for both plant equipment and structures. The survey provides data at the two-through six-digit North American Industry Classification System (NAICS) levels. It also provides geographic data by state at a more aggregated industry level.

The survey provides valuable information to private companies, research organizations, and trade associations. Industry makes extensive use of the annual figures on product shipments at the U.S. level in its market analysis, product planning, and investment planning. The ASM data are used to benchmark and reconcile monthly and quarterly data on manufacturing production and inventories.

With the 2018 ASM, the Census Bureau plans to make the following changes to this data collection:

MA-10000(L)—Long Form

a. Special Inquiry: Add a new Special Inquiry on basic robotic use in manufacturing to gauge the prevalence of robotics use in the manufacturing sector across different geographies and by firm size.

b. Item 22 (Product Classification): Previously, Item 22, Details of Sales Shipments Receipts or Revenue was collected using the North American Industry Classification System (NAICS). Moving forward, the collection of Item 22 will be based on the North American Product Classification System (NAPCS). NAPCS is a comprehensive demand-based hierarchical classification system for products that is not industry-of-origin based, but can be linked to the NAICS industry structure, and is consistent across the three North American countries.

c. Item 22 (Miscellaneous Receipts): Due to the implementation of NAPCS, Miscellaneous Receipts will not be collected. In previous ASM years, products were collected by NAICS codes which were specific to manufacturing-only. Out of sector products, produced by manufacturing establishments were classified as Miscellaneous Receipts. Miscellaneous Receipts included contract work, resales, and other. NAPCS is an economy-wide solution, which will allow ASM respondents to classify out of sector products in valid NAPCS codes.

MA-10000(S)—Short Form

a. All respondents will complete the long form, MA-10000(L). The MA-10000(S), short form will be eliminated. Historically, all establishments of multiunit companies plus the large single-location companies in the sample were asked to report on the MA-10000(L). The remaining single-location companies in the sample were asked to report on the MA-10000(S). In 2014, approximately 3,000 out of 51,000 sampled establishments received the MA-10000(S). This change will impact less than 6% of respondents. The MA-10000(S) was an abbreviated version of the MA-10000(L), and collected significantly less detailed data. Data not collected on the MA-10000(S) were imputed. Imputation rates and estimates will improve by eliminating the MA-10000(S).

II. Method of Collection

The ASM statistics are derived from a sample of manufacturing establishments. The 2012 Economic Census—Manufacturing contained approximately 294,600 active manufacturing establishments. For sample efficiency and cost considerations, the population was partitioned into two groups: Establishments eligible to be mailed a questionnaire (101,250 establishments) and establishments not eligible to be mailed a questionnaire (193,350 establishments). The group of establishments that is not eligible to be mailed a questionnaire still contributes to the ASM estimates. The group of establishments that is eligible to be mailed a questionnaire is defined as the mail stratum. It is comprised of larger single-location manufacturing companies and all manufacturing establishments of multi-location companies. Of the 101,250 establishments in the mail stratum, 47,800 establishments were selected for the ASM sample using methodology similar to what was used for previous ASM samples. The initial sample was supplemented with manufacturing establishments that were newly opened in 2013 (births) to yield a sample of 50,200 establishments for the 2014 ASM. Births added to the mail stratum are large, single-location companies and new manufacturing establishments of multi-location companies. Births are added annually to the mail sample, and the current sample size is approximately 55,000 establishments.

The initial mailing will include a letter instructing respondents to report online. Paper forms will not be available. The electronic reporting system provides a cost-effective and user-friendly method to collect data from companies. Companies will be supplied a unique authentication code for the electronic reporting tool. Respondents have the option of printing a worksheet that lists all of the questions. Respondents can print the worksheet to use as a guide to respond or can print the worksheet after completing the questionnaire as a record of their response. As in the previous section, all respondents will complete the long form.

The group of establishments that is not eligible to be mailed a questionnaire is defined as the nonmail stratum. The nonmail stratum contained the remaining 193,350 single-location companies. Although this group still contributes to the ASM estimates, no data are collected from companies in the nonmail stratum. Rather, data are imputed using administrative records of the Internal Revenue Service (IRS), the Social Security Administration (SSA), and the Bureau of Labor Statistics (BLS) or are imputed based on industry averages. Though the nonmail companies account for nearly two-thirds of the establishments in the universe, they account for only about 6 percent of the manufacturing output. The nonmail stratum is supplemented annually with small manufacturing births that are not included in the mail stratum.

III. Data

OMB Control Number: 0607-0449.

Form Number(s): MA-10000(L).

Type of Review: Regular submission.

Affected Public: Business or Other for Profit, Non-profit Institutions, Small Businesses or Organizations, and State or Local Governments.

Estimated Number of Respondents: 55,000.

Estimated Time per Response: 4 hours.

Estimated Total Annual Burden Hours: 220,000.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C. Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-14982 Filed 7-12-18; 8:45 am]

BILLING CODE 3510-07-P